DEPARTMENT OF COMMERCE

International Trade Administration

[A-580-847]

Antidumping Duty Order: Stainless Steel Bar From Korea

AGENCY: Import Administration, International Trade Administration, Department of Commerce.

ACTION: Notice of antidumping duty order.

EFFECTIVE DATE: March 7, 2002.

FOR FURTHER INFORMATION CONTACT: Brian Smith or Sophie Castro at (202) 482-1766 and (202) 482-0588, respectively, Import Administration, International Trade Administration, U.S. Department of Commerce, 14th Street and Constitution Avenue, NW., Washington, DC 20230.

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations refer to 19 CFR part 351 (April 2001).

Scope of Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., here 77964B.1 cold-formed products in coils, of any uniform solid cross section along their whole length, which do not conform to the definition of flat-rolled products), and angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States here 77964B.1 (“HTSUS”). Although the HTSUS subheadings are provided for convenience and customs purposes, the written description of the scope of this order dispositive.

Antidumping Duty Order

In accordance with section 735(a) of the Act, the Department published its final determination that stainless steel bar from Korea is being, or is likely to be, sold in the United States at less than fair value. See Notice of Final Determination of Sales at Less Than Fair Value: Stainless Steel Bar from Korea, here 77964B.1 67 FR 3149 (January 23, 2002). On February 28, 2002, the International Trade Commission notified the Department of its final determination pursuant to section 735(b)(1)(A)(i) of the Act that an industry in the United States is materially injured by reason of less-than-fair-value imports of subject merchandise from Korea. Therefore, in accordance with section 736(a)(1) of the Act, the Department will direct the Customs Service to assess, upon further advice by the Department, antidumping duties equal to the amount by which the normal value of the merchandise exceeds the export price or constructed export price of the merchandise for all relevant entries of stainless steel bar from Korea. These antidumping duties will be assessed on all unliquidated entries of imports of the subject merchandise that are entered, or withdrawn from warehouse, for consumption on or after August 2, 2001, the date on which the Department published its notice of affirmative preliminary determination in the Federal Register. See Notice of Preliminary Determination of Sales at Less Than Fair Value: Stainless Steel Bar from Korea, here 77964B.1 66 FR 40222 (August 2, 2001).

On or after the date of publication of this notice in the Federal Register, Customs Service officers must require, at the same time as importers would normally deposit estimated duties, a cash deposit equal to the estimated weighted-average antidumping duty margins as noted below. The “All Others” rate applies to all exporters of subject merchandise not specifically listed. The weighted-average dumping margins are as follows:

Exporter/Manufacturer | Weighted-Average Margin Percentage
Changwon Specialty Steel Co., Ltd | 13.38
Dongbang Industrial Co., Ltd | 4.75
All Others | 11.30

This notice constitutes the antidumping duty order with respect to stainless steel bar from Korea pursuant to section 736(a) of the Act. Interested parties may contact the Department's Central Records Unit, Room B-099 of the Main Commerce Building, for copies of an updated list of antidumping duty orders currently in effect.

This order is published in accordance with section 736(a) of Act and 19 CFR 351.211(b).

Dated: March 9, 2002.
Faryar Shirzad,
Assistant Secretary for Import Administration.

[FR Doc. 02-5642 Filed 3-6-02; 8:45 am]

BILLING CODE 3510-DS-P